DEPARTMENT OF ENERGY

Federal Energy Regulatory Commission

[Docket Nos. RM01-10-000 et al.]

Standards of Conduct for Transmission Providers et al.; Notice of Proposed Changes in FERC Gas Tariff

August 27, 2004.

In the matter of: RM01-10-000, RP04-469-000, RP04-473-000, RP04-474-000, RP04-487-000, RP04-497-000, RP04-477-000, RP04-479-000, RP04-480-000, RP04-494-000, RP04-481-000, RP04-483-000, RP04-489-000, RP04-486-000, RP04-485-000; Standards of Conduct for Transmission Providers, Algonquin Gas Transmission, LLC, East Tennessee Natural Gas, LLC, Egan Hub Storage, LLC, Florida Gas Transmission Company, Gulfstream Natural Gas System, L.L.C., Maritimes & Northeast Pipeline, L.L.C., Panhandle Eastern Pipe Line Company, LP, Sea Robin Pipeline Company, Southern Natural Gas Company, Southwest Gas Storage Company, Texas Eastern Transmission, LP, Transwestern Pipeline Company, Trunkline Gas Company, LLC, Trunkline LNG Company, LLC.

Take notice that on August 20, 23, and 24, 2004, the above-referenced pipelines tendered for filing their tariff sheets respectively, in compliance with the Commission's Orders pertaining to ¹ Standards of Conduct regulations pursuant to part 358 of the Commission's regulations, 18 CFR part 358.

¹ Standards of Conduct for Transmission Providers, 68 FR 69134 (December 11, 2003), III FERC Stats. & Regs., ¶ 31,155 (November 25, 2003) (“Order No. 2004” or Final Rule”); order on reh'g and clarification (Order No. 2004-A), 107 FERC ¶ 61,032 (2004), order on reh'g and clarification, 108 FERC ¶ 61,118 (2004) (Order No. 2004-B).

Any person desiring to intervene or to protest said filings must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

Anyone filing an intervention or protest must file a separate motion to intervene or protest in each docket.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2057 Filed 9-2-04; 8:45 am]

BILLING CODE 6717-01-P